DEPARTMENT OF COMMERCE

National Oceanic and Atmospheric Administration

Request for Comment; Strategic Priorities for Ocean Exploration and Characterization in the Pacific Islands Within the United States Exclusive Economic Zone and Outer Continental Shelf (Pacific Islands Priorities Report)

AGENCY: Office of Ocean Exploration and Research, National Oceanic and Atmospheric Administration (NOAA), Department of Commerce.

ACTION: Notice of public comment.

SUMMARY: On behalf of the Ocean Science and Technology Subcommittee of the Ocean Policy Committee co-chaired by the Office of Science and Technology Policy (OSTP) and the Council on Environmental Quality (CEQ), the National Ocean Mapping, Exploration, and Characterization (NOMEC) Council and the Interagency Working Group on Ocean Exploration and Characterization (IWG-OEC) request public input from all interested parties on the development of the “Strategic Priorities for Ocean Exploration and Characterization in the Pacific Islands within the United States Exclusive Economic Zone and Outer Continental Shelf” (Pacific Islands Priorities Report). The public input provided in response to this notice will inform the IWG-OEC and federal subject matter experts in identifying strategic priorities and data needs for ocean exploration and characterization in the U.S. Pacific Islands (State of Hawai’i and the U.S. Pacific Territories and Possessions) as they develop the Pacific Islands Priorities Report and ensure that this report is informed by and responsive to all sectors through sustained engagement and effective partnerships.

DATES: Comments must be received by November 4, 2024.

ADDRESSES: Responses should be submitted via email to nomec.staff@noaa.gov.

Instructions: Response to this notice is voluntary. Include “Public Comment on Pacific Islands Priorities Report” in the subject line of the message. All submissions must be in English. Email attachments will only be accepted in plain text, Microsoft Word, or Adobe PDF formats. Each individual or institution is requested to submit only one response.

Responses to this notice may be posted without change on a Federal website. All personal identifying information (e.g., name, address, etc.), confidential business information, or otherwise sensitive information submitted voluntarily by the sender will become publicly accessible. NOAA, therefore, requests that no business proprietary information, copyrighted information, or personally identifiable information be submitted in response to this notice. Anonymous comments will be accepted. Please note that the U.S. Government will not pay for response preparation or the use of any information contained in the response.

Documents referenced:

A copy of the previous Strategic Priorities for Ocean Exploration and Characterization of the United States Exclusive Economic Zone published in October 2022 may be downloaded or viewed at: https://www.whitehouse.gov/wp-content/uploads/2022/10/NOMEC_OEC_Priorities_Report.pdf.

A copy of the Report on the Workshop to Identify National Ocean Exploration Priorities in the Pacific may be downloaded or viewed at: https://col.ucar.edu/sites/default/files/2022-09/OceanExploration_PacificPriorities_WorkshopReport_NOV2020.pdf.

A copy of the NOMEC National Strategy may be downloaded or viewed at: https://www.noaa.gov/sites/default/files/2022-07/NOMECStrategy.pdf.

A copy of the current NOMEC Implementation Plan may be downloaded or viewed at: https://www.noaa.gov/sites/default/files/2021-11/210107-FINALNOMECImplementationPlan-Clean.pdf.

FOR FURTHER INFORMATION CONTACT: IWG-OEC Co-chairs: Rachel Medley, NOAA, rachel.medley@noaa.gov, 301-789-3075; Dr. Amanda Demopoulos, U.S. Geological Survey, ademopoulos@usgs.gov, 352-264-3490; Mark Mueller, Bureau of Ocean Energy Management, mark.mueller@boem.gov, 703-787-1089.

SUPPLEMENTARY INFORMATION: The NOMEC Council and IWG-OEC issue this notice on behalf of the Ocean Science and Technology Subcommittee of the Ocean Policy Committee co-chaired by the OSTP and the CEQ and in coordination with the Administrator of NOAA. Public input in response to this notice will inform development of the Pacific Islands Priorities Report, which aims to expand on the prior national-scale U.S. interagency Strategic Priorities for Ocean Exploration and Characterization of the United States Exclusive Economic Zone (Priorities Report) released in October 2022 (https://www.whitehouse.gov/wp-content/uploads/2022/10/NOMEC_OEC_Priorities_Report.pdf) along with a non-federal Consortium for Ocean Leadership Report on the Workshop to Identify National Ocean Exploration Priorities in the Pacific released in 2020 (https://col.ucar.edu/sites/default/files/2022-09/OceanExploration_PacificPriorities_WorkshopReport_NOV2020.pdf). Information gathered in the interagency Priorities Report was generated from public response to a Federal Register notice (87 FR 16169; March 22, 2022) and from federal subject matter experts working across five thematic groups. The geographic and thematic priorities identified in the 2022 Priorities Report have directly guided interagency projects collecting information in identified priority areas including expeditions in the Aleutian Arc, Blake Plateau, and Hawai'i, and this new information-gathering effort in the Pacific Islands will do the same.

The IWG-OEC sees value in re-initiating the ad hoc thematic federal working groups and seeking public comments to further refine thematic priorities and data needs specific to the Pacific Islands (State of Hawai'i and the U.S. Pacific Territories and Possessions) within the United States Exclusive Economic Zone (U.S. EEZ) and Outer Continental Shelf (OCS) since there have been changes to relevant federal statutes and an expansion of federal interests in Western and Central Pacific Islands and Nations following the compilation and release of the prior Priorities Report. Additionally, a new federally led regional campaign, “Beyond the Blue: Illuminating the Pacific,” was recently launched. This new prioritization exercise builds upon the prior Priorities Report and supports the objectives of the Beyond the Blue campaign, the NOMEC Strategy and other national strategies.

This notice solicits comments from Native Hawaiians, Pacific Islanders, and stakeholders, including academia, private industry, and other relevant institutions, to inform the development and finalization of the Pacific Islands Priorities Report. Specifically, the IWG-OEC is looking for information addressing the following aspects relevant to ocean exploration and characterization within the Pacific Islands (State of Hawai'i and the U.S. Pacific Territories and Possessions). The IWG-OEC will consider relevant priorities and data needs outside U.S. waters if the connection and relevance to U.S. federal interests is explicitly made.

• Provide a description of high-priority interests, disciplines, topics, and/or themes in the region.

• What types of additional data need to be acquired related to these priorities?

• What types of data standards, protocols, and best

• practices are best suited for data collection related to these priorities?

• What types of products or analyses need to be produced related to these priorities?

• Can you provide information about data sovereignty best practices and principles that can enhance the incorporation of cultural and indigenous knowledge?

• What challenges exist when gathering or accessing data? Can you propose specific solutions to these challenges?

• What technologies or methods (e.g., instrumentation or sensors) exist to address these priorities?

• What specific technology gaps or limitations need to be developed or improved to better advance data collection, planning, and processing techniques?

David Holst,
Chief Financial and Administrative Officer, Office of Oceanic and Atmospheric Research, National Oceanic and Atmospheric Administration.

[FR Doc. 2024-19417 Filed 8-28-24; 8:45 am]

BILLING CODE 3510-KA-P